SMALL BUSINESS ADMINISTRATION

Public Meeting

The Heartland States Regulatory Fairness Board will hold a Public Hearing on June 13, 2000. The meeting hearing will be held at the Marriott Hotel located at 1250 74th Street, West Des Moines, IA 50266 at 1 p.m. The purpose of this hearing is to receive comments and testimony from small businesses and representatives of trade associations concerning regulatory enforcement or compliance actions taken by federal agencies. Transcripts of these proceedings will be posted on the Internet. These transcripts are subject only to limited review by the National Ombudsman. Contact: John Greiner (312) 353-0880.

Bettie Baca,
Counselor to the Administration/Public Liaison.

[FR Doc. 00-10197 Filed 4-21-00; 8:45 am]

BILLING CODE 8025-01-P